SMALL BUSINESS ADMINISTRATION

[Disaster Declaration #13154 and #13155]

West Virginia Disaster Number WV-00028

AGENCY: U.S. Small Business Administration.

ACTION: Amendment 1.

SUMMARY: This is an amendment of the Presidential declaration of a major disaster for Public Assistance Only for the State of West Virginia (FEMA-4071-DR), dated 07/23/2012.

Incident: Severe Storms and Straight-line Winds.

Incident Period: 06/29/2012 through 07/08/2012.

DATES: Effective Date: 08/01/2012.

Physical Loan Application Deadline Date: 09/21/2012.

Economic Injury (EIDL) Loan Application Deadline Date: 04/23/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of West Virginia, dated 07/23/2012, is hereby amended to re-establish the incident period for this disaster as beginning 06/29/2012 and continuing through 07/08/2012.

All other information in the original declaration remains unchanged.

(Catalog of Federal Domestic Assistance Numbers 59002 and 59008)

James E. Rivera,
Associate Administrator for Disaster Assistance.

[FR Doc. 2012-19668 Filed 8-9-12; 8:45 am]

BILLING CODE 8025-01-P